DEPARTMENT OF COMMERCE

Foreign-Trade Zones Board

[B-67-2017]

Foreign-Trade Zone (FTZ) 26—Atlanta, Georgia; Authorization of Production Activity; Kubota North America Corporation (Agricultural and Specialty Vehicles); Jefferson and Gainesville, Georgia

On November 15, 2017, Kubota North America Corporation submitted a notification of proposed production activity to the FTZ Board for its facility within Subzone 26P, in Jefferson and Gainesville, Georgia.

The notification was processed in accordance with the regulations of the FTZ Board (15 CFR part 400), including notice in the Federal Register inviting public comment (82 FR 55800—55801, November 24, 2017). On March 23, 2018, the applicant was notified of the FTZ Board's decision that no further review of the activity is warranted at this time. The production activity described in the notification was authorized, subject to the FTZ Act and the FTZ Board's regulations, including Section 400.14.

Dated: March 23, 2018.
Andrew McGilvray,
Executive Secretary.

[FR Doc. 2018-06356 Filed 3-28-18; 8:45 am]

BILLING CODE 3510-DS-P